ENVIRONMENTAL PROTECTION AGENCY

[FRL-7389-7]

Proposed Amendment to Settlement Under Sections 122(g) and 122(h) of the Comprehensive Environmental Response, Compensation, and Liability Act for the Marina Cliffs/Northwestern Barrel Superfund Site, South Milwaukee, Wisconsin

AGENCY: Environmental Protection Agency (“EPA”).

ACTION: Notice; request for public comment on proposed amendment to de minimis settlement.

SUMMARY: In accordance with section 122(i)(1) of the Comprehensive Environmental Response, Compensation and Liability Act of 1984, as amended (“CERCLA”), notification is hereby given of a proposed amendment to an administrative agreement concerning the Marina Cliffs/Northwestern Barrel hazardous waste site located between 5th Avenue and Lake Michigan in South Milwaukee, Wisconsin (the “Site”). The settlement agreement, issued by EPA on September 21, 2001, would be amended to add Mautz Paint Company as a non-de minimis settling party. EPA entered the settlement in EPA Docket No V-W-01C-630 after publishing a notice and request for comments in the Federal Register on May 10, 2001, and reviewing and responding to the comments it received.

Under the existing agreement, the de minimis settling parties paid a total of approximately $5.6 million toward cleanup costs at the Site to resolve fully their liability at the Site. A group of six non-de minimis settlors agreed to perform the remaining removal actions to be conducted at the Site, and pay EPA's costs of overseeing these removal actions. After the settlement was completed, EPA and the remaining non-de minimis settling parties reached agreement with Mautz Paint Company to add that company as an additional non-de minimis settlor. Adding this party to the settlement will not alter the obligations of, or protections received by, the de minimis parties.

For thirty days following the date of publication of this notice, the EPA will receive written comments relating to this proposed agreement. EPA will consider all comments received and may decide not to enter or to require modifications to this proposed amendment if comments disclose facts or considerations which indicate that the proposed agreement is inappropriate, improper or inadequate.

DATES: Comments on the proposed agreement must be received by EPA on or before November 4, 2002.

ADDRESSES: Comments should be addressed to the Docket Clerk, U.S. Environmental Protection Agency, Region 5, 77 West Jackson Boulevard, Chicago, Illinois, 60604-3590, and should refer to: In the Matter of Marina Cliffs/Northwestern Barrel, South Milwaukee, Wisconsin, U.S. EPA Docket No. V-W-01C-630.

FOR FURTHER INFORMATION CONTACT: Thomas J. Krueger, U.S. Environmental Protection Agency, Office of Regional Counsel, C-14J, 77 West Jackson Boulevard, Chicago, Illinois, 60604-3590, (312) 886-0562.

A copy of the proposed amendment to the administrative settlement agreement may be obtained in person or by mail from the EPA's Region 5 Office of Regional Counsel, 77 West Jackson Boulevard, Chicago, Illinois, 60604-3590. Additional background information relating to the settlement is available for review at the EPA's Region 5 Office of Regional Counsel.

Authority: The Comprehensive Environmental Response, Compensation, and Liability Act, as amended, 42 U.S.C. 9601-9675.

Wendy L. Carney,
Acting Director, Superfund Division, Region 5.

[FR Doc. 02-25302 Filed 10-3-02; 8:45 am]

BILLING CODE 6560-50-P